DEPARTMENT OF ENERGY

Federal Energy Regulatory Commission

Combined Notice of Filings #1

Take notice that the Commission received the following electric corporate filings:

Docket Numbers: EC24-14-000.

Applicants: Crooked Lake Solar, LLC.

Description: Application for Authorization Under Section 203 of the Federal Power Act of Crooked Lake Solar, LLC.

Filed Date: 10/30/23.

Accession Number: 20231030-5276.

Comment Date: 5 p.m. ET 11/20/23.

Docket Numbers: EC24-15-000.

Applicants: American Falls Solar, LLC, American Falls Solar II, LLC, CSOLAR IV South, LLC, CSOLAR IV West, LLC.

Description: Joint Application for Authorization Under Section 203 of the Federal Power Act of American Falls Solar, LLC, et al.

Filed Date: 10/30/23.

Accession Number: 20231030-5278.

Comment Date: 5 p.m. ET 11/20/23.

Take notice that the Commission received the following electric rate filings:

Docket Numbers: ER10-1819-038; ER10-1820-041; ER10-1818-036; ER10-1817-029.

Applicants: Southwestern Public Service Company, Public Service Company of Colorado, Northern States Power Company, a Wisconsin corporation, Northern States Power Company, a Minnesota corporation.

Description: Notice of Change in Status of Northern States Power Company, a Minnesota corporation, et al.

Filed Date: 10/30/23.

Accession Number: 20231030-5283.

Comment Date: 5 p.m. ET 11/20/23.

Docket Numbers: ER10-2042-049; ER10-1862-042; ER10-1873-020; ER10-1875-020; ER10-1876-021; ER10-1878-020; ER10-1883-020; ER10-1884-020; ER10-1885-020; ER10-1888-020; ER10-1893-042; ER10-1934-042; ER10-1938-043; ER10-1941-020; ER10-1942-040; ER10-1947-021; ER10-2985-046; ER10-3049-047; ER10-3051-047; ER11-4369-027; ER12-1987-018; ER12-2261-019; ER12-2645-013; ER13-1407-015; ER16-2218-028; ER17-696-028; ER19-1127-010; ER20-1699-008; ER23-944-005.

Applicants: Calpine Community Energy, LLC, Johanna Energy Center, LLC, Calpine King City Cogen, LLC, Calpine Energy Solutions, LLC, North American Power Business, LLC, CCFC Sutter Energy, LLC, Pastoria Energy Facility L.L.C., Russell City Energy Company, LLC, O.L.S. Energy-Agnews, Inc., North American Power and Gas, LLC, Champion Energy, LLC, Champion Energy Services, LLC, Champion Energy Marketing LLC, Otay Mesa Energy Center, LLC, Calpine Construction Finance Co., L.P., Calpine Gilroy Cogen, L.P., Calpine Power America—CA, LLC, CES Marketing IX, LLC, CES Marketing X, LLC, Creed Energy Center, LLC, Delta Energy Center, LLC, Geysers Power Company, LLC, Gilroy Energy Center, LLC, Goose Haven Energy Center, LLC, Los Esteros Critical Energy Facility, LLC, Los Medanos Energy Center LLC, Metcalf Energy Center, LLC, Power Contract Financing, L.L.C., Calpine Energy Services, L.P.

Description: Notice of Change in Status of Calpine Energy Services, L.P., et al.

Filed Date: 10/30/23.

Accession Number: 20231030-5219.

Comment Date: 5 p.m. ET 11/20/23.

Docket Numbers: ER10-2895-026; ER10-1427-007; ER10-2466-024; ER10-2917-026; ER10-2921-026; ER10-2922-026; ER10-2966-026; ER10-3167-019; ER11-2201-029; ER11-2383-022; ER11-4029-023; ER12-161-028; ER12-1311-023; ER12-2068-023; ER13-203-018; ER13-1613-019; ER13-2143-019; ER14-1964-018; ER16-287-012; ER17-482-012; ER19-529-013; ER19-1074-013; ER19-1075-013; ER20-1447-008; ER20-2028-003; ER22-192-007; ER22-1010-005; ER23-2481-001.

Applicants: Crystal Hill Solar, LLC, TerraForm IWG Acquisition Holdings II, LLC, Evolugen Trading and Marketing LP, Bitter Ridge Wind Farm, LLC, Brookfield Energy Marketing US LLC, Brookfield Renewable Energy Marketing US LLC, Brookfield Energy Marketing Inc., Brookfield Renewable Trading and Marketing LP, BREG Aggregator LLC, BIF III Holtwood LLC, BIF II Safe Harbor Holdings, LLC, Black Bear Development Holdings, LLC, Brookfield White Pine Hydro LLC, Black Bear SO, LLC, Blue Sky East, LLC, Stetson Holdings, LLC, Bishop Hill Energy LLC, Vermont Wind, LLC, Safe Harbor Water Power Corporation, Evergreen Wind Power III, LLC, Black Bear Hydro Partners, LLC, Rumford Falls Hydro LLC, Hawks Nest Hydro LLC, Great Lakes Hydro America, LLC, Brookfield Power Piney & Deep Creek LLC, Stetson Wind II, LLC, Brookfield Energy Marketing LP, Bear Swamp Power Company LLC.

Description: Notice of Change in Status of Bear Swamp Power Company LLC, et al.

Filed Date: 10/30/23.

Accession Number: 20231030-5282.

Comment Date: 5 p.m. ET 11/20/23.

Docket Numbers: ER15-1905-014.

Applicants: Amazon Energy LLC.

Description: Notice of Change in Status of Amazon Energy LLC.

Filed Date: 10/30/23.

Accession Number: 20231030-5280.

Comment Date: 5 p.m. ET 11/20/23.

Docket Numbers: ER18-1197-008; ER10-2125-027; ER10-2127-024; ER10-2128-026; ER10-2129-017; ER10-2132-026; ER10-2133-027; ER10-2134-015; ER10-2764-026; ER11-3872-028; ER20-2444-006; ER20-2445-006; ER21-1838-005; ER22-1999-004.

Applicants: Number Three Wind LLC, Orangeville Energy Storage LLC, Prineville Solar Energy LLC, Millican Solar Energy LLC, Stony Creek Energy LLC, Vantage Wind Energy LLC, Hardee Power Partners Limited, Sheldon Energy LLC, Willow Creek Energy LLC, Grays Harbor Energy LLC, Wolverine Creek Energy LLC, Invenergy TN LLC, Judith Gap Energy LLC, Camilla Solar Energy LLC.

Description: Notice of Change in Status of Camilla Solar Energy LLC, et al.

Filed Date: 10/30/23.

Accession Number: 20231030-5281.

Comment Date: 5 p.m. ET 11/20/23.

Docket Numbers: ER23-207-001.

Applicants: Golden Spread Electric Cooperative, Inc.

Description: Compliance filing: Final Order 676J Compliance Filing to be effective 2/1/2024.

Filed Date: 10/31/23.

Accession Number: 20231031-5005.

Comment Date: 5 p.m. ET 11/21/23.

Docket Numbers: ER23-816-000.

Applicants: System Energy Resources, Inc.

Description: Refund Report: SERI UPSA Compliance (EL18-152 and ER23-816) to be effective N/A.

Filed Date: 10/27/23.

Accession Number: 20231027-5223.

Comment Date: 5 p.m. ET 11/17/23.

Docket Numbers: ER23-1319-001.

Applicants: Baldy Mesa Solar, LLC.

Description: Notice of Change in Status of Baldy Mesa Solar, LLC.

Filed Date: 10/30/23.

Accession Number: 20231030-5220.

Comment Date: 5 p.m. ET 11/20/23.

Docket Numbers: ER23-1589-001.

Applicants: AES ES Westwing, LLC.

Description: Notice of Change in Status of AES ES Westwing, LLC.

Filed Date: 10/30/23.

Accession Number: 20231030-5238.

Comment Date: 5 p.m. ET 11/20/23.

Docket Numbers: ER23-1669-002; ER23-1668-002.

Applicants: Estrella Solar, LLC, Raceway Solar 1, LLC.

Description: Notice of Change in Status of Raceway Solar 1, LLC, et al.

Filed Date: 10/30/23.

Accession Number: 20231030-5271.

Comment Date: 5 p.m. ET 11/20/23.

Docket Numbers: ER23-2346-001.

Applicants: Oak Ridge Solar, LLC.

Description: Notice of Change in Status of Oak Ridge Solar, LLC.

Filed Date: 10/30/23.

Accession Number: 20231030-5272.

Comment Date: 5 p.m. ET 11/20/23.

Docket Numbers: ER23-2568-001.

Applicants: Duke Energy Carolinas, LLC.

Description: Tariff Amendment: DEC-Response to Letter of Deficiency to be effective 1/1/2023.

Filed Date: 10/30/23.

Accession Number: 20231030-5227.

Comment Date: 5 p.m. ET 11/20/23.

Docket Numbers: ER24-231-001.

Applicants: West Penn Power Company, PJM Interconnection, L.L.C.

Description: Tariff Amendment: West Penn Power Company submits tariff filing per 35.17(b): Errata to West Penn Power Revisions to OATT, Att. H-11A in ER24-231 to be effective 1/1/2023.

Filed Date: 10/30/23.

Accession Number: 20231030-5236.

Comment Date: 5 p.m. ET 11/20/23.

Docket Numbers: ER24-251-000.

Applicants: Duke Energy Florida, LLC.

Description: § 205(d) Rate Filing: DEF-Bartow-FPL RS No. 422 Reimbursement Agmt to be effective 1/1/2024.

Filed Date: 10/30/23.

Accession Number: 20231030-5201.

Comment Date: 5 p.m. ET 11/20/23.

Docket Numbers: ER24-252-000.

Applicants: Metropolitan Edison Company, PJM Interconnection, L.L.C.

Description: § 205(d) Rate Filing: Metropolitan Edison Company submits tariff filing per 35.13(a)(2)(iii: Met-Ed amends Nine ECSAs (6414 6415 6416 6417 6418 6485 6486 6488 6494) to be effective 12/31/9998.

Filed Date: 10/30/23.

Accession Number: 20231030-5204.

Comment Date: 5 p.m. ET 11/20/23.

Docket Numbers: ER24-253-000.

Applicants: Northern Indiana Public Service Company LLC.

Description: § 205(d) Rate Filing: Supplement to WVPA IA to be effective 12/31/2023.

Filed Date: 10/30/23.

Accession Number: 20231030-5237.

Comment Date: 5 p.m. ET 11/20/23.

Docket Numbers: ER24-254-000.

Applicants: Southwest Power Pool, Inc.

Description: § 205(d) Rate Filing: Central Power Electric Cooperative, Inc. Formula Rate Revisions to be effective 1/1/2024.

Filed Date: 10/31/23.

Accession Number: 20231031-5007.

Comment Date: 5 p.m. ET 11/21/23.

Docket Numbers: ER24-255-000.

Applicants: CPV Stagecoach Solar, LLC.

Description: Baseline eTariff Filing: Application for Market-Based Rate Authority to be effective 12/8/2023.

Filed Date: 10/31/23.

Accession Number: 20231031-5013.

Comment Date: 5 p.m. ET 11/21/23.

Docket Numbers: ER24-256-000.

Applicants: Dominion Energy South Carolina, Inc.

Description: Tariff Amendment: Notice of Termination of PSA with Orangeburg to be effective 12/31/2023.

Filed Date: 10/31/23.

Accession Number: 20231031-5033.

Comment Date: 5 p.m. ET 11/21/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 31, 2023.
Debbie-Anne A. Reese,
Deputy Secretary.

[FR Doc. 2023-24487 Filed 11-3-23; 8:45 am]

BILLING CODE 6717-01-P